ENVIRONMENTAL PROTECTION AGENCY

[EPA-HQ-OW-2016-0439; FRL-9971-18-OW]

Peer Review To Inform the Safe Drinking Water Act Decision Making on Perchlorate in Drinking Water

AGENCY: Environmental Protection Agency (EPA).

ACTION: Notice of final peer reviewer selection and public peer review meeting.

SUMMARY: The U.S. Environmental Protection Agency (EPA) is announcing a public peer review meeting and the final list of expert peer review panelists assembled by EPA's contractor, Versar, Inc. Versar is conducting the external peer review of scientific materials contained in the report titled “Draft Report: Proposed Approaches to Inform the Derivation of a Maximum Contaminant Level Goal for Perchlorate in Drinking Water” (draft MCLG Approaches Report).

DATES: The public peer review meeting will be held on January 29 and 30, 2018. The meeting will be held from approximately 8:30 a.m. to 5 p.m., eastern time, on January 29, and from approximately 8:30 a.m. to 3 p.m., eastern time, on January 30. The registration deadline to attend the meeting in-person or via teleconference or to request to make a brief oral statement at the meeting is January 17, 2018. See the SUPPLEMENTARY INFORMATION section for instructions of how to register.

ADDRESSES: The peer review meeting will be held at the Crystal City Marriott at Reagan National Airport, located at 1999 Jefferson Davis Highway, Arlington, VA 22202. The phone number for the teleconference line will be provided to registered observers prior to the meeting.

FOR FURTHER INFORMATION CONTACT: Questions regarding logistics or registration for the public peer review meeting should be directed to Versar, Inc., at 6850 Versar Center, Springfield, VA 22151 (ATTN: Tracey Cowen); by email: perchlorate@versar.com (subject line: Perchlorate Peer Review); or by phone: (301) 304-3121 (ask for Tracey Cowen). For additional information concerning the draft MCLG Approaches Report, please contact Samuel Hernandez at the U.S. EPA, Office of Ground Water and Drinking Water, Standards and Risk Management Division (Mail Code 4607M), 1200 Pennsylvania Avenue NW., Washington, DC 20460; telephone: (202) 564-1735; or email: hernandez.samuel@epa.gov.

SUPPLEMENTARY INFORMATION:

I. Registration Instructions

To attend the peer review meeting as an observer, either in-person or via teleconference, register no later than January 17, 2018. You may register (1) by sending an email to perchlorate@versar.com (subject line: Perchlorate Peer Review Registration) and include your name, title, affiliation, full address, email, and phone number; or (2) by calling Versar at (301) 304-3121 (ask for Tracey Cowen); or (3) by mailing Versar, Inc., at 6850 Versar Center, Springfield, VA 22151 (ATTN: Tracey Cowen). Please indicate which day(s) you plan to attend the meeting and whether you plan to attend via teleconference or in-person. Space is limited, and registrations will be accepted on a first-come, first-served basis. There will be a limited amount of time for oral statements from the public at the beginning of the peer review meeting on the first day. If you wish to make an oral statement during the meeting, you must notify Versar of your request to speak no later than January 17, 2018. Versar will notify speakers of specific time limits for their oral statements. Versar will accept requests to make oral statements on a first-come, first-served basis, and may limit the amount of time for each speaker as well as the number of speakers due to time constraints. Please be advised that public comments are subject to release under the Freedom of Information Act.

II. Information on Draft Approaches To Inform the Derivation of a Perchlorate MCLG

EPA announced the release of the draft MCLG Approaches Report for public comment on September 15, 2017, in the Federal Register (82 FR 43354); on October 12, 2017 (82 FR 47507), EPA announced a 21-day extension of the public comment period on the draft MCLG Approaches Report. The 66-day public comment period on the draft report ended on November 20, 2017. The draft report and public comments received during the comment period are publicly available at http://www.regulations.gov (Docket ID No. EPA-HQ-OW-2016-0438). EPA will consider public comments and peer review recommendations in future revisions to the draft MCLG Approaches Report.

III. Information on Final Peer Review Charge Questions

EPA announced a request for public comments on the draft peer review charge questions on September 15, 2017, in the Federal Register (82 FR 43361). The 21-day public comment period on the draft charge questions ended on October 6, 2017. EPA considered public comments as it finalized the peer review charge questions. The final peer review charge questions are available through the docket at http://www.regulations.gov (Docket ID No. EPA-HQ-OW-2016-0439).

IV. Information About the Peer Reviewers

Consistent with agency guidelines for the peer review of highly influential scientific assessments, EPA tasked its contractor, Versar, to assemble a panel of experts to evaluate the draft MCLG Approaches Report. Versar evaluated 12 candidates for the peer review panel and solicited public comments on an interim list of peer review panelists on September 15, 2017, in the Federal Register (82 FR 43361).

After review and consideration of public comments and consultation with EPA's Scientific Integrity Official, Versar has selected eight peer reviewers, who will, collectively, best provide expertise spanning the previously mentioned areas of knowledge and experience and, to the extent feasible, best provide a balance of perspectives. The final list of eight selected expert peer reviewers is provided as follows:

Name of Nominee, Degree, Place of Employment

1. Hugh A. Barton, Ph.D., Pfizer, Inc.

2. Nancy Carrasco, M.D., Yale School of Medicine

3. Jonathan Chevrier, Ph.D., McGill University Faculty of Medicine

4. Claude Emond, Ph.D., University of Montreal

5. Dale Hattis, Ph.D., George Perkins Marsh Institute, Clark University

6. Angela M. Leung, M.D., M.Sc., UCLA David Geffen School of Medicine

7. Stephen M. Roberts, Ph.D., University of Florida

8. Joanne F. Rovet, Ph.D., The Hospital for Sick Children (Toronto)

EPA requests that no individual or organization contact in any way Versar or the peer review panel members regarding the subject of the peer review meeting, send them written materials regarding the subject of the meeting, or make any offers or requests to any of them that appear to be linked to their participation in the peer review. Versar will direct the peer review panel members to report any such contacts to Versar, Inc., who will take appropriate action in consultation with EPA to ensure the independence and impartiality of the peer review.

V. Information About the Peer Review Meeting

Versar, Inc., has charged the peer review panelists with evaluating and preparing written comments on the draft MCLG Approaches Report. Specifically, reviewers will provide general comments, their overall impressions of the document, and responses to charge questions. Reviewers will also consider the appropriateness of the quality, accuracy, and relevance of the data in the document. Prior to the meeting, Versar will provide copies of the public comments submitted to EPA's public docket (Docket ID No. EPA-HQ-OW-2016-0438) on the draft MCLG Approaches Report to the peer review panelists for their consideration.

Dated: November 17, 2017.
Michael H. Shapiro,
Acting Assistant Administrator, Office of Water.

[FR Doc. 2017-25714 Filed 11-27-17; 8:45 am]

BILLING CODE 6560-50-P